ENVIRONMENTAL PROTECTION AGENCY

40 CFR Part 52

[RME Docket Number R08-OAR-2005-CO-0001; FRL-7954-6]

Approval and Promulgation of Air Quality Implementation Plans; State of Colorado; Denver Early Action Compact Ozone Plan, Attainment Demonstration of the 8-Hour Ozone Standard, and Approval of Related Revisions

AGENCY: Environmental Protection Agency (EPA).

ACTION: Final rule.

SUMMARY: On May 17, 2005, EPA published a notice of proposed rulemaking (NPR) to propose approval of Colorado's Early Action Compact (EAC) ozone plan for the Denver metropolitan area (hereafter, Denver area) for the 8-hour ozone National Ambient Air Quality Standard (NAAQS). In that NPR, EPA proposed to approve the Denver area's EAC ozone plan, an attainment demonstration for the 8-hour ozone NAAQS, revisions to Colorado's Common Provisions Regulation, revisions to Colorado's Regulation No. 7 “Emissions of Volatile Organic Compounds” (hereafter, Regulation No. 7), and revisions to Colorado's Regulation No. 11 “Motor Vehicle Emissions Inspection Program” (hereafter Regulation No. 11). In this action, EPA is approving the Denver EAC ozone plan, the associated attainment demonstration, and the revisions to the Common Provisions Regulation, Regulation No. 7, and Regulation No. 11. This action is being taken under section 110 of the Clean Air Act.

DATES: Effective Date: September 19, 2005.

ADDRESSES: EPA has established a docket for this action under Docket ID No. RME R08-OAR-2005-CO-0001. All documents in the docket are listed in the Regional Materials in EDOCKET index at http://docket.epa.gov/rmepub/index.jsp. Although listed in the index, some information is not publicly available, i.e., Confidential Business Information (CBI) or other information whose disclosure is restricted by statute. Certain other material, such as copyrighted material, is not placed on the Internet and will be publicly available only in hard copy form. Publicly available docket materials are available either electronically in the Regional Materials in EDOCKET or in hard copy at the Air and Radiation Program, Environmental Protection Agency (EPA), Region 8, 999 18th Street, Suite 300, Denver, Colorado 80202-2466. EPA requests that if at all possible, you contact the individual listed in the FOR FURTHER INFORMATION CONTACT section to view the hard copy of the docket. You may view the hard copy of the docket Monday through Friday, 8 a.m. to 4 p.m., excluding Federal holidays.

FOR FURTHER INFORMATION CONTACT: Tim Russ, Air and Radiation Program, Environmental Protection Agency (EPA), Region 8, Mailcode 8P-AR, 999 18th Street, Suite 300, Denver, Colorado 80202-2466, phone (303) 312-6479, and e-mail at: russ.tim@epa.gov.

SUPPLEMENTARY INFORMATION:

Table of Contents

I. What Is the Purpose of This Action?

II. Final action

III. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials NAAQS mean National Ambient Air Quality Standard.

(iv) The initials SIP mean or refer to State Implementation Plan.

(v) The word State means the State of Colorado, unless the context indicates otherwise.

I. What Is the Purpose of This Action?

On May 17, 2005, we published an NPR that proposed approval of the Denver area's EAC ozone plan, attainment demonstration, and associated SIP elements. See 70 FR 28239. The NPR also opened a 30-day public comment period on this proposed Agency action. We did not receive any comments.

In this final action, we are approving the Early Action Compact ozone plan for the Denver area that is designed to demonstrate attainment of the 8-hour ozone NAAQS by December 31, 2007 with additional provisions for continued maintenance of the ozone NAAQS through 2012, we're approving the photochemical modeled attainment demonstration, we're approving certain revisions to the State's Common Provisions Regulation, we're approving revisions to Regulation No. 7 for the control of VOC and NOX emissions from certain oil and gas exploration and production operations, we're approving revisions to the motor vehicle inspections and maintenance (I/M) requirements in Regulation No. 11 the Governor submitted on July 21, 2004, we're approving several prior I/M revisions to Regulation No. 11, and we are accepting the State's commitment letter, dated March 22, 2005, that addresses certain continuing planning provisions of our EAC Protocol.

Detailed descriptions regarding the Denver EAC Plan, attainment demonstration, and additional SIP elements are provided in our May 17, 2005, NPR action (see 70 FR 28239) and will not be repeated here. Please refer to our May 17, 2005, NPR and Docket ID No. RME R08-OAR-2005-CO-0001. As noted above, all documents in the docket are listed in the Regional Materials in EDOCKET index at http://docket.epa.gov/rmepub/index.jsp.

II. Final Action

In this action, EPA is approving the following:

A. The Denver Early Action Compact ozone plan. EPA is approving the Denver Early Action Compact ozone plan, and its associated dispersion modeled attainment demonstration, for the 8-hour ozone NAAQS as adopted by the Colorado AQCC on March 12, 2004, and submitted by the Governor to us on July 21, 2004.

B. The revisions to the Common Provisions Regulation. EPA is approving the revisions to Colorado's Common Provisions Regulation as adopted by the AQCC on March 12, 2004, State effective on May 31, 2004, and submitted by the Governor to us on July 21, 2004.

C. The revisions to Regulation No. 7. EPA is approving the revisions to Colorado's Regulation No. 7, entitled “Emissions of Volatile Organic Compounds,” which the AQCC adopted on December 16, 2004, State effective on March 2, 2005, and submitted to us by the Governor on March 24, 2005. These revisions to Regulation No. 7, supercede and replace those adopted by the AQCC on March 12, 2004, State effective on May 31, 2004, that the Governor submitted to us on July 21, 2004 except for the revisions to sections I.A.1, I.A.1.a, I.A.1.b, I.A.1.c, I.B.1.b, and I.B.2.f. We are also approving the foregoing sections from the July 21, 2004 submittal.

D. The revisions to Regulation No. 11. EPA is approving the revisions to Colorado's Regulation No. 11, entitled “Motor Vehicle Emissions Inspection Program,” as follows:

(1) Revisions adopted by the AQCC on November 16, 2000, December 20, 2001, August 15, 2002, and October 17, 2002, and submitted by the Governor to us on June 20, 2003;

(2) Revisions adopted by the AQCC on September 18, 2003, and December 18, 2003, and submitted by the Governor to us on April 12, 2004; and

(3) Revisions adopted by the AQCC on March 12, 2004, State effective May 31, 2004, and submitted by the Governor on July 21, 2004.¹

¹ While EPA is only approving these changes to Regulation No. 11, EPA is incorporating by reference a complete version of Regulation No. 11 that includes these changes and otherwise conforms to the version of Regulation No. 11 included in the EPA-approved SIP before this action.

E. The State's Commitment Letter. EPA is accepting the March 22, 2005, letter from Margie Perkins, Director, Air Pollution Control Division, Colorado Department of Public Health and Environment, to Richard Long, Director, Air and Radiation Program, EPA Region VIII. This letter contained commitments from the State to adhere to and address the continuing planning process requirements contained in the “Maintenance for Growth” provisions of EPA's “Protocol for Early Action Compacts Designed to Achieve and Maintain the 8-Hour Ozone Standards.”

This action will become effective September 19, 2005.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 18, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: August 2, 2005.
Robert E. Roberts,
Regional Administrator, Region VIII.

40 CFR part 52 is amended to read as follows:

PART 52—[AMENDED]

1. The authority citation for Part 52 continues to read as follows:

Authority: 42 U.S.C. 7401 et seq.

Subpart G—Colorado

2. Section 52.320 is amended by adding paragraph (c)(107) to read as follows:

§ 52.320 Identification of plan.

* * * * *

(c) * * *

(107) On July 21, 2004, the Governor submitted revisions to the Colorado State Implementation Plan for Colorado's Common Provisions Regulation that contained a definition for condensate. On July 21, 2004, and on March 24, 2005, the Governor also submitted revisions to the Colorado State Implementation Plan for Colorado's Regulation No. 7 “Emissions of Volatile Organic Compounds” that made several changes and additions to sections I.A., I.B., II.A and added new sections XII and XVI. The March 24, 2005 version of Regulation No. 7 superceded and replaced portions of the July 21, 2004 version of Regulation No. 7. On June 20, 2003, April 12 2004, and July 21, 2004, the Governor of Colorado submitted revisions to the Colorado State Implementation Plan for Colorado's Regulation No. 11 “Motor Vehicle Emissions Inspection Program.”

(i) Incorporation by reference.

(A) Common Provisions Regulation, 5 CCR 1001-2, as adopted on March 12, 2004, effective on May 30, 2004, as follows: Section I.G, definition of “Condensate.”

(B) Regulation No. 7 “Emissions of Volatile Organic Compounds,” 5 CCR 1001-9, as adopted on March 12, 2004, effective on May 31, 2004, as follows: Sections I.A.1, I.A.1.a, I.A.1.b, I.A.1.c, I.B.1.b, and I.B.2.f. As adopted on December 16, 2004, effective March 2, 2005, as follows: Sections I.A.2, II.A.16, II.A.17, XII, and XVI.

(C) Regulation No. 11 “Motor Vehicle Emissions Inspection Program,” 5 CCR 1001-13, with changes most recently adopted on March 12, 2004, effective May 31, 2004, as follows: Part A, Part B, Part C, Part D, Part E, Part F, and Appendices A and B, except for the following sentence in Part A.I, which is being acted on separately: “The provisions of this regulation applicable to Larimer and Weld counties shall not be included in the state implementation plan after January 1, 2004.”

(ii) Additional material.

(A) March 22, 2005, letter from Margie Perkins, Director, Air Pollution Control Division, Colorado Department of Public Health and Environment, to Richard Long, Director, Air and Radiation Program, EPA Region VIII. This letter contained commitments from the State to adhere to and address the continuing planning process requirements contained in the “Maintenance for Growth” provisions of EPA's “Protocol for Early Action Compacts Designed to Achieve and Maintain the 8-Hour Ozone Standards.”

3. Section 52.350 is amended by designating the existing text as paragraph (a) and by adding paragraph (b) to read as follows:

§ 52.350 Control strategy: Ozone.

* * * * *

(b) Revisions to the Colorado State Implementation Plan, 8-hour ozone NAAQS Early Action Compact plan for the metropolitan Denver area entitled “Early Action Compact Ozone Action Plan,” excluding sections entitled “Introduction” and “Ozone Monitoring Information,” as adopted by the Colorado Air Quality Control Commission on March 12, 2004, and submitted by the Governor to us on July 21, 2004.

[FR Doc. 05-16485 Filed 8-18-05; 8:45 am]

BILLING CODE 6560-50-P